DEPARTMENT OF ENERGY

Federal Energy Regulatory Commission

Combined Notice of Filings #

Take notice that the Commission has received the following Natural Gas Pipeline Rate and Refund Report filings:

Filings Instituting Proceedings

Docket Number: PR22-15-000.

Applicants: Columbia Gas of Ohio, Inc.

Description: Submits tariff filing per 284.123(b),(e)/: COH Rates Effective 11-29-2021 to be effective 11/29/2021.

Filed Date: 12/23/2021.

Accession Number: 202112235067.

Comments/Protests Due: 5 p.m. ET 1/13/2022.

Docket Numbers: RP22-467-000.

Applicants: Texas Eastern Transmission, LP.

Description: § 4(d) Rate Filing: Negotiated Rates—Releases eff 1-1-22 to be effective 1/1/2022.

Filed Date: 1/3/22.

Accession Number: 20220103-5014.

Comment Date: 5 p.m. ET 1/18/22.

Docket Numbers: RP22-468-000.

Applicants: Northern Border Pipeline Company.

Description: § 4(d) Rate Filing: Negotiated Rate Agreement—Sequent Energy Management—TL372F to be effective 1/1/2022.

Filed Date: 1/3/22.

Accession Number: 20220103-5032.

Comment Date: 5 p.m. ET 1/18/22.

Docket Numbers: RP22-469-000.

Applicants: NEXUS Gas Transmission, LLC.

Description: § 4(d) Rate Filing: Negotiated Rates—Releases eff 1-1-22 to be effective 1/1/2022.

Filed Date: 1/3/22.

Accession Number: 20220103-5038.

Comment Date: 5 p.m. ET 1/18/22.

Docket Numbers: RP22-470-000.

Applicants: Equitrans, L.P.

Description: § 4(d) Rate Filing: Negotiated Rate Capacity Release Agreements—1/1/2022 to be effective 1/1/2022.

Filed Date: 1/3/22.

Accession Number: 20220103-5039.

Comment Date: 5 p.m. ET 1/18/22.

Docket Numbers: RP22-471-000.

Applicants: Rockies Express Pipeline LLC.

Description: § 4(d) Rate Filing: REX 2022-01-03 Negotiated Rate Agreement Amendment to be effective 1/2/2022.

Filed Date: 1/3/22.

Accession Number: 20220103-5066

Comment Date: 5 p.m. ET 1/18/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-454-001.

Applicants: Rockies Express Pipeline LLC.

Description: Tariff Amendment: REX 2020-01-03 RP22-454 Amendment to be effective 1/1/2022.

Filed Date: 1/3/22.

Accession Number: 20220103-5075.

Comment Date: 5 p.m. ET 1/18/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2022.
Kimberly D. Bose,
Secretary.

[FR Doc. 2022-00093 Filed 1-6-22; 8:45 am]

BILLING CODE 6717-01-P